FEDERAL MINE SAFETY AND HEALTH REVIEW COMMISSION

Senior Executive Service Performance Review Board (PRB)

AGENCY: Federal Mine Safety and Health Review Commission.

ACTION: Notice of Members of the Federal Mine Safety and Health Review Commission combined Performance Review Board (PRB).

SUMMARY: Pursuant to 5 U.S.C. 4314(c)(4), this notice announces the appointment of members of the combined PRB for the Federal Mine Safety and Health Review Commission. The Board reviews the performance appraisals of career and non-career senior executives. The Board makes recommendations regarding proposed performance appraisals, ratings, bonuses and other appropriate personnel actions.

Composition of PRB: The Board shall consist of at least three voting members. In the case of an appraisal of a career appointee, more than half of the members shall consist of career appointees. The names and titles of the PRB members are as follows:

Primary Members:

—Cynthia Z. Springer, Deputy Executive Director, Administrative Resource Center, Bureau of the Public Debt;

—Debra L. Hines, Assistant Commissioner, Office of Public Debt Accounting, Bureau of the Public Debt;

—Kimberly A. McCoy, Assistant Commissioner, Office of Information Technology, Bureau of the Public Debt.

Alternative Members:

None.

DATES: Membership is effective on the date of this notice.

FOR FURTHER INFORMATION CONTACT: Thomas A. Stock, Executive Director, Federal Mine Safety and Health Review Commission, Suite 9500, 601 New Jersey Avenue NW., Washington, DC 20001, (202) 434-9900.

This notice does not meet the Federal Mine Safety and Health Review Commission's criteria for significant regulations.

Dated: December 5, 2007.
Thomas A. Stock,
Executive Director, Federal Mine Safety and Health Review Commission.

[FR Doc. E7-24004 Filed 12-10-07; 8:45 am]

BILLING CODE 6735-01-P